INTERNATIONAL TRADE COMMISSION

[Investigation No. 337-TA-697]

In the Matter of Certain Authentication Systems, Including Software and Handheld Electronic Devices; Notice of Commission Decision Not to Review an Initial Determination Terminating the Investigation Based on a Settlement Agreement

AGENCY: U.S. International Trade Commission.

ACTION: Notice.

SUMMARY: Notice is hereby given that the U.S. International Trade Commission has determined not to review an initial determination (Order No. 13) issued by the presiding administrative law judge (“ALJ”) in the above-captioned investigation terminating the investigation based on a settlement agreement.

FOR FURTHER INFORMATION CONTACT: Paul M. Bartkowski, Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 5, 2010, based on a complaint filed by Prism Technologies LLC of Omaha, Nebraska (“Prism”). The complaint as amended alleged violations of section 337 of the Tariff Act of 1930 (19 U.S.C. 1337) in the importation into the United States, the sale for importation, and the sale within the United States after importation of certain authentication systems, including software and handheld electronic devices, by reason of infringement of certain claims of U.S. Patent No. 7,290,288. The complaint named Research in Motion, Ltd. of Ontario, Canada and Research in Motion Corp. of Irving Texas (collectively, “RIM”) as Respondents.

The ID grants a joint motion to terminate the investigation based on a settlement agreement between Prism and RIM. No petitions for review were filed. The Commission has determined not to review the subject ID.

The authority for the Commission's determination is contained in section 337 of the Tariff Act of 1930, as amended (19 U.S.C. 1337), and in section 210.42 of the Commission's Rules of Practice and Procedure (19 CFR 210.42).

By order of the Commission.
Issued: June 21, 2010.
Marilyn R. Abbott,
Secretary to the Commission.

[FR Doc. 2010-15665 Filed 6-25-10; 8:45 am]

BILLING CODE 7020-02-P